DEPARTMENT OF HOMELAND SECURITY

Transportation Security Administration

Extension of Agency Information Collection Activity Under OMB Review: Pipeline Operator Security Information

AGENCY: Transportation Security Administration, DHS.

ACTION: 30-Day notice.

SUMMARY: This notice announces that the Transportation Security Administration (TSA) has forwarded the Information Collection Request (ICR), Office of Management and Budget (OMB) control number 1652-0055, abstracted below, to OMB for review and approval of an extension of the currently approved collection under the Paperwork Reduction Act (PRA). The ICR describes the nature of the information collection and its expected burden. Specifically, the collection involves the submission of data concerning pipeline security incidents, and the cybersecurity coordinator(s) and alternate(s) contact information.

DATES: Send your comments by July 2, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment solicitation period, of the following collection of information on November 15, 2024, 86 FR 90305. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline Operator Security Information.

Type of Request: Extension of a currently approved collection.

OMB Control Number: 1652-0055.

Forms(s): CISA ¹ Reporting System form.

¹ Cybersecurity and Infrastructure Security Agency (CISA).

Affected Public: Pipeline system operators.

Abstract: In addition to TSA's broad responsibility and authority for “security in all modes of transportation” under 49 U.S.C. 114(d), TSA is statutorily required to develop and transmit to pipeline operators security recommendations for natural gas and hazardous liquid pipelines and pipeline facilities. See sec. 1557 of the Implementing Recommendations of the 9/11 Commission Act of 2007, Public Law 110-53 (121 Stat. 266; August 3, 2007), codified at 6 U.S.C. 1207.

Voluntary Collection. Consistent with these requirements, TSA produced Pipeline Security Guidelines in December 2010, and April 2011, with an update published in April 2021. As the lead federal agency for pipeline security and consistent with its statutory authorities, TSA requests to be notified of all (1) incidents that may indicate a deliberate attempt to disrupt pipeline operations; and (2) activities that could be precursors to such an attempt.

Mandatory collection. In May 2021 in response to a ransomware attack on the Colonial Pipeline Company, TSA issued a security directive series with requirements for owner/operators of hazardous liquid and natural gas pipelines and liquefied natural gas facilities that TSA designated as critical. The security directive series included two mandatory information collections, reporting pipeline security incidents, and providing contact information for the cybersecurity coordinator(s) and alternate(s).

Estimated Annual Respondents: 100.

Estimated Annual Burden Hours: 726.²

² Since the publication of 60-day notice, TSA adjusted the estimated annual burden from 4,109 hours to 726 hours as a result of the decrease in time to submit incidents to CISA.

Dated: May 28, 2025.
Christina A. Walsh,
Paperwork Reduction Act Officer, Information Technology, Transportation Security Administration.

[FR Doc. 2025-09943 Filed 5-30-25; 8:45 am]

BILLING CODE 9110-05-P